DEPARTMENT OF AGRICULTURE

Submission for OMB Review; Comment Request

January 3, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR Part 1744, Subpart B, Lien Accommodations and Subordination Policy.

OMB Control Number: 0572-0126.

Summary of Collection: Rural Utilities Service (RUS) borrowers and other organizations providing telecommunications services will undertake projects that provide new telecommunications services and other telecommunications services not ordinarily financed by RUS. RUS is willing to consider accommodating the Government's lien on telecommunications borrowers' systems based on the financial strength of the borrowers operations. The RUS telecommunication program provides loans to borrowers at interest rates and on terms that are more favorable than those generally available from the private sector.

Need and Use of the Information: Depending on the purposes for which a lien accommodation is sought, RUS will use the information to provide approval for borrowers that meet the financial tests. These tests are designed to ensure that the financial strength of the borrower is sufficient to protect the government's loan security interests.

Description of Respondents: Business or other for-profit; Not for-profit institutions.

Number of Respondents: 30.

Frequency of Responses: Reporting: On occasion.

Total Burden Hours: 23.

Sondra Blakey,
Departmental Information Collection Clearance Officer.

[FR Doc. 05-304 Filed 1-6-05; 8:45 am]

BILLING CODE 3410-15-P